DEPARTMENT OF TRANSPORTATION

Federal Aviation Administration

Meeting: RTCA Program Management Committee (PMC)

AGENCY: Federal Aviation Administration (FAA), U.S. Department of Transportation (DOT).

ACTION: Notice of RTCA Program Management Committee Meeting.

SUMMARY: The FAA is issuing this notice to advise the public of a RTCA Program Management Committee meeting.

DATES: The meeting will be held December 15th from 8:30 a.m.-4:30 p.m.

ADDRESSES: The meeting will be held at RTCA Headquarters, 1150 18th Street NW., Suite 910, Washington, DC 20036, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a) (2) of the Federal Advisory Committee Act (Pub. L. 92-463, 5 U.S.C., App.), notice is hereby given for a meeting of the RTCA Program Management Committee. The agenda will include the following:

Tuesday, December 15, 2015

1. Welcome and Introductions

2. Review/Approve

a. Meeting Summary September 22, 2015, RTCA Paper No. 181-15/PMC-1362

b. Summary of Electronic Approvals since last PMC

i. Revised TOR SC-147—MOPS for Traffic Alert and Collision Avoidance Systems Airborne Equipment

ii. Revised TOR SC-224—Standards for Airport Security Access Control Systems

3. Publication Consideration/Approval

a. Final Draft, Revised Document, DO-300A—Minimum Operational Performance Standards (MOPS) for Traffic Alert and Collision Avoidance System II (TCAS II) Hybrid Surveillance, prepared by SC-147

b. Change 2 to DO-300—Minimum Operational Performance Standards (MOPS) for Traffic Alert and Collision Avoidance System II (TCAS II) Hybrid Surveillance, prepared by SC-147

c. Final Draft, Revised Document, DO-262B—Minimum Operational Performance Standards for Avionics Supporting next Generation Satellite System (NGSS) Iridium Specific Appendix D, prepared by SC-222

d. Final Draft, Revised Document, DO-230E—Standards for Airport Security Access Control Systems, prepared by SC-224

e. Final Draft, Revised Document, DO-283A—Minimum Operational Performance Standards for Required Navigation Performance for Area Navigation, prepared by SC-227

4. Integration and Coordination Committee (ICC)

a. Need for IP Standards—Update

5. Past Action Item Review

a. DO-361 Disclaimer—Discussion

b. PMC Ad-Hoc MASPS vs. guidance “discontinuity” between RTCA and EUROCAE documentation—Discussion

c. Review of RTCA Document Types—Discussion

d. Industry Interest in Runway Overrun Alerting—possible new Special Committee (SC)—Discussion

e. Planning Forward Session—Discussion

f. Wireless Avionics Intra Communication—possible new Special Committee (SC)—Discussion

g. UPS GPS issue—Update

6. Discussion

a. SC-206—Aeronautical Information and Meteorological Data Link Services—Discussion—Revised TOR

b. SC-209—Air Traffic Control Radar Beacon System/Mode Select (ATCRBS/Mode S) Transponder—Discussion—Revised TOR

c. SC-213—Enhanced Flight Vision Systems/Synthetic Vision Systems—Discussion—Revised TOR

d. SC-225—Rechargeable Lithium Batteries and Battery Systems—Discussion—Status Update on DO-311 Revision

e. SC-233—Addressing Human Factors/Pilot Interface Issues for Avionics—Discussion—Status Update

f. SC-234—Portable Electronic Devices—Discussion—Revised TOR

g. Design Assurance Guidance for Airborne Electronic Hardware—Status—Possible New Special Committee to Update RTCA DO-254

h. Forum of Aeronautical Software—Discussion—Update

i. NAC—Status Update

j. TOC—Status Update

k. FAA Actions Taken on Previously Published Documents—Report

l. Special Committees—Chairmen's Reports and Active Inter-Special Committee Requirements Agreements (ISRA)—Review

m. European/EUROCAE Coordination—Status Update

n. Planning Forward—Discussion

7. Other Business

8. Schedule for Committee Deliverables and Next Meeting Date

9. New Action Item Summary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on November 18, 2015.
Latasha Robinson,
Management & Program Analyst, NextGen, Enterprise Support Services Division, Federal Aviation Administration.

[FR Doc. 2015-29828 Filed 11-20-15; 8:45 am]

BILLING CODE 4910-13-P